DEPARTMENT OF THE INTERIOR

Fish and Wildlife Service

Reopening the Comment Period for an Application for a Permit

AGENCY: Fish and Wildlife Service, Interior.

ACTION: Notice of reopening the comment period for an application for a permit.

SUMMARY: The Fish and Wildlife Service is reopening the comment period for the application cited below. We published a notice on May 7, 2002 (67 FR 30720) with a date for the receipt of comments by June 6, 2002. The reopening of the comment period will allow all interested parties another 15 days to review the application and provide the Service with any additional comments.

DATES: Written data, comments or requests must be received by July 15, 2002.

ADDRESSES: Documents and other information submitted with this application are available for review, subject to the requirements of the Privacy Act and Freedom of Information Act, by any party who submits a written request for a copy of such documents within 15 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION: Applicant: Bowmanville Zoological Park, Ontario, Canada, PRT-055508.

The applicant requests a permit to export, re-export, and re-import Asian elephants (Elephas maximus) and progeny of the animals currently held by the applicant and any animals acquired in the United States by the applicant to/from worldwide locations to enhance the survival of the species through conservation education. This notification covers activities conducted by the applicant over a three year period.

The U.S. Fish and Wildlife Service has information collection approval from OMB through March 31, 2004, OMB Control Number 1018-0093. Federal Agencies may not conduct or sponsor and a person is not required to respond to a collection of information unless it displays a current valid OMB control number.

Dated: June 14, 2002.
Monica Farris,
Senior Permit Biologist, Branch of Permits, Division of Management Authority.

[FR Doc. 02-16368 Filed 6-27-02; 8:45 am]

BILLING CODE 4310-55-P